NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: December 9, 2002, from 10 a.m. to 11 a.m.

ADDRESSES: Whittall Pavilion, Library of Congress, Thomas Jefferson Building, Ground Floor.

FOR FURTHER INFORMATION CONTACT: Michael L. Gillette, Director, Center for Legislative Archives, (202) 501-5350.

SUPPLEMENTARY INFORMATION:

Agenda

Overview of Committee's activities.

House services to departing Members concerning the disposition of their papers.

Summary of NIST report on irradiated records.

Legislative records outside of official custody.

Follow-up discussion.

Activities report of the Center for Legislative Archives.

Other current issues and new business.

The meeting is open to the public.

Dated: November 21, 2002.
Mary Ann Hadyka,
Committee Management Officer.

[FR Doc. 02-30012 Filed 11-26-02; 8:45 am]

BILLING CODE 7515-01-P